DEPARTMENT OF ENERGY

Proposed Agency Information Collection

AGENCY: Office of Infrastructure, U.S. Department of Energy.

ACTION: Notice and request for comments.

SUMMARY: The Department of Energy (DOE) invites public comment on a proposed collection of information that DOE is developing for submission to the Office of Management and Budget (OMB) pursuant to the Paperwork Reduction Act of 1995.

DATES: Comments regarding this proposed information collection must be received on or before July 31, 2023. If you anticipate difficulty in submitting comments within that period, contact the person listed in ADDRESSES as soon as possible.

ADDRESSES: Written comments may be sent to Ira Birnbaum, DOE/Infrastructure/FEMP, 1000 Independence Avenue SW, Washington, DC 20585 or by email at Ira.Birnbaum@hq.doe.gov.

FOR FURTHER INFORMATION CONTACT: Requests for additional information or copies of the information collection instrument and instructions should be directed to Ira Birnbaum, DOE/Infrastructure/FEMP, 1000 Independence Avenue SW, Washington, DC 20585, Ira.Birnbaum@hq.doe.gov, (202) 287-1869.

SUPPLEMENTARY INFORMATION: Comments are invited on: (a) whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains: (1) OMB No.: New; (2) Information Collection Request Title: DOE Qualified List of Energy Service Companies; (3) Type of Request: New; (4) Purpose: The ESPC statute (42 U.S.C. 8287(b)(2)(A)-(B)) requires the Secretary of Energy to establish and maintain a list of firms qualified to perform energy efficiency and renewable energy projects specifically using the energy savings performance contracts (ESPCs) project financing methodology. The forms subject to this Paperwork Reduction Act submission constitute the application and recertification statement for inclusion on the DOE Qualified List of Energy Service Companies (ESCOs). The ESCOs on the DOE Qualified List constitute the group of firms that are eligible for contract award under 10 CFR 436.32. ESCOs that would like to bid on ESPC contracts for the Federal government must apply to the DOE Qualified List of ESCOs and complete the annual recertification statement; (5) Annual Estimated Number of Respondents: 120; (6) Annual Estimated Number of Total Responses: 120; (7) Annual Estimated Number of Burden Hours: 492; (8) Annual Estimated Reporting and Recordkeeping Cost Burden: $59,220.

Statutory Authority: The ESPC statute (42 U.S.C. 8287(b)(2)(A)-(B)) requires the Secretary of Energy to establish and maintain a list of firms qualified to perform energy efficiency and renewable energy projects specifically using the energy savings performance contracts (ESPCs) project financing methodology.

Signing Authority: This document of the Department of Energy was signed on May 23, 2023, by Mary Sotos, Director, Federal Energy Management Program, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 25, 2023.
Treena V. Garrett,
Federal Register Liaison Officer, U.S. Department of Energy.

[FR Doc. 2023-11484 Filed 5-30-23; 8:45 am]

BILLING CODE 6450-01-P